DEPARTMENT OF THE INTERIOR

National Park Service

[NPS-MWR-PIRO-26192; PS.SMWLA0088.00.1]

Minor Boundary Revision at Pictured Rocks National Lakeshore

AGENCY: National Park Service, Interior.

ACTION: Notification of boundary revision.

SUMMARY: The boundary of Pictured Rocks National Lakeshore is modified to include approximately 0.14 acres of land situated in the City of Munising, Alger County, Michigan, immediately adjacent to the boundary of the national lakeshore. The property will be donated to the United States by NPT Range Light Acquisition LLC.

DATES: The applicable date of this boundary revision is February 12, 2019.

ADDRESSES: The map depicting this boundary revision is available for inspection at the following locations: National Park Service, Land Resources Program Center, Midwest Region, 601 Riverfront Drive, Omaha, Nebraska 68102 and National Park Service, Department of the Interior, 1849 C Street NW, Washington, DC 20240.

FOR FURTHER INFORMATION CONTACT: National Park Service, Daniel L. Betts, Realty Officer, Midwest Region Land Resources Program Center, 601 Riverfront Drive, Omaha, Nebraska 68102, telephone (402) 661-1780.

SUPPLEMENTARY INFORMATION: Notice is hereby given that, pursuant to 54 U.S.C. 100506(c), the boundary of Pictured Rocks National Lakeshore is modified to include 0.14 acres of land. The boundary revision is depicted on the Pictured Rocks National Lakeshore Proposed Minor Boundary Addition map numbered 625/142825 and dated March 2018.

Specifically, 54 U.S.C. 100506(c) provides that, after consultation with the governing body of the county, city, town, or other jurisdiction or jurisdictions having taxing authority over the land or interest to be acquired as to the impact of the proposed action, and subsequent notification of the Committee on Natural Resources of the House of Representatives and the Committee on Energy and Natural Resources of the Senate, the Secretary of the Interior is authorized to make this boundary revision upon publication of notice in the Federal Register. The relevant governing bodies have been consulted and the Committees have been notified of this boundary revision. This boundary revision and subsequent donation will ensure preservation and protection of one of the Park's historic resources.

Once this property is included within the park boundary and acquired by the United States, it is the intention of the National Park Service to manage the property for public purposes.

Dated: November 20, 2018.
Craig Kenkel,
Acting Regional Director, Midwest Region.

[FR Doc. 2019-02022 Filed 2-11-19; 8:45 am]

BILLING CODE 4312-52-P